DEPARTMENT OF DEFENSE

Department of the Navy

Notice of Intent To Prepare an Environmental Impact Statement for the Medical Facilities Development and University Expansion at Naval Support Activity Bethesda, Bethesda, Maryland and To Announce Public Scoping Meetings

AGENCY: Department of the Navy, DoD.

ACTION: Notice.

SUMMARY: Pursuant to section (102)(2)(c) of the National Environmental Policy Act (NEPA) of 1969, the regulations implemented by the Council on Environmental Quality (40 Code of Federal Regulations [CFR] parts 1500-1508), the Department of the Navy (DoN) announces its intent to prepare an Environmental Impact Statement (EIS) to evaluate the potential environmental effects associated with the proposed actions at Naval Support Activity (NSA) Bethesda to implement the Congressional mandate in the Fiscal Year (FY) 2010 National Defense Authorization Act (NDAA) to achieve the new statutory world-class standards for military medicine at the Walter Reed National Military Medical Center at Bethesda (WRNMMCB) by providing enduring facilities commensurate in quality, capability and condition as those provided by the Base Realignment and Closure (BRAC) investment and address the space and operational limitations at the Uniformed Services University of the Health Sciences (USUHS). The proposed actions, which will enhance and support but not add to the missions of the installation, medical center or USUHS, include: (1) The demolition of five (5) hospital buildings and reconstruction of a single 5-story facility and associated parking garage, utility capacity upgrades, and temporary medical facilities to provide uninterrupted patient care during construction (Medical Facilities Development) and (2) the expansion of the USUHS and associated parking garage.

These proposed actions are two components of the 2012 NSA Bethesda Master Plan that the DoN is currently updating and this EIS analyzes the implementation of these components. The 2012 NSA Bethesda Master Plan reflects ongoing projects previously considered under NEPA as well as potential future development opportunities at NSA Bethesda. The EIS will evaluate the cumulative effects of the proposed actions in the context of the known, ongoing activities and identify the potential programmatic effects of the proposed actions in the context of the potential future development opportunities. Therefore, the EIS will analyze the environmental effects of the 2012 NSA Bethesda Master Plan relative to the implementation of the proposed actions in this EIS. For the potential future development opportunities, the DoN will ensure the appropriate NEPA review is completed at such time as the projects are proposed for implementation.

The proposed actions at NSA Bethesda consist of: (1) The Medical Facilities Development, which includes demolition of Buildings 2, 4, 6, 7, and 8 and construction of a single, 5-story replacement building in the medical center core, construction of an associated parking garage, utility capacity upgrades, construction of temporary medical facilities to maintain uninterrupted patient care during construction, and internal renovations to Buildings 1, 3, 5, 9, and 10; and (2) the University Expansion, which includes construction of a new classroom/research facility and associated parking garage at USUHS. The proposed actions would not add to the existing missions at NSA Bethesda and would occur subsequent to the 2005 BRAC Law mandated relocation of the Walter Reed Army Medical Center's (WRAMC) tertiary (sub-specialty and complex care) medical services to National Naval Medical Center (NNMC) at NSA Bethesda in September 2011. With the relocation, the NNMC will be renamed the WRNMMCB.

NSA Bethesda is the action proponent and the DoN is the lead agency for the proposed actions. Joint Task Force National Capital Region Medical (JTF CapMed), NNMC, and USUHS, are tenants of NSA Bethesda and are the stakeholders for these activities.

The DoN is initiating a 45-day public scoping period to identify community interests and specific issues to be addressed in the EIS. The public scoping period starts with the publication of this Notice of Intent. The DoN will hold two public scoping meetings to inform the public of the proposed actions and receive comments.

Comments, both written and oral, will be collected at each of the two public scoping meetings. Each of the public scoping meetings will consist of an open house session followed by a live presentation and an opportunity for the public to present their comments. To ensure that the full range of issues related to the proposed actions will be addressed, representatives from the DoN will be available to solicit comments from all interested parties during the public scoping meetings. Following future publication of the draft EIS, at a time to be determined, further public meetings will be held to address comments on the draft document.

Dates and Addresses: The two public scoping meetings will be held on the following dates:

1. Wednesday, September 7, 2011, 5 p.m. to 9 p.m., Bethesda Marriott, 5151 Pooks Hill Road, Bethesda, Maryland 20814.

2. Monday, September 12, 2011, 1 p.m. to 5 p.m., Bethesda Marriott, 5151 Pooks Hill Road, Bethesda, Maryland 20814.

Additional information concerning meeting times and locations are available on the NSA Bethesda Web site at: http://www.bethesda.med.navy.mil/nsa/eis.aspx. Public scoping meeting schedules and locations will also be announced in local newspapers.

FOR FURTHER INFORMATION CONTACT: Sandy Dean, NSA Bethesda Public Affairs Office; e-mail: NNMC.NSABETHESDAEIS@med.navy.mil; telephone number: 301-295-5727.

SUPPLEMENTARY INFORMATION: NSA Bethesda is a 243-acre health care, medical education and research installation located in Bethesda in Montgomery County, Maryland and is the home of the world renowned NNMC. The installation provides logistical and service support to all of its tenant commands, including JTF CapMed, NNMC, and USUHS. In September 2011, with the completion of 2005 BRAC mandated relocation of WRAMC tertiary medical services to NNMC and its transformation to WRNMMCB, the facility will become the premier DoD medical center offering intensive and complex specialty and subspecialty medical services for the most seriously injured personnel from all military services. WRNMMCB and USUHS will also provide training and post-graduate level education to the military medical community and serve as a critical medical research center.

The purpose of the Medical Facilities Development is to implement the Congressional mandate from the FY2010 National Defense Authorization Act to achieve the new statutory world-class standards for military medicine at the WRNMMCB by providing enduring facilities commensurate in quality, capability and condition as those provided by the BRAC investment. The Medical Facilities Development is needed because current space is insufficient to meet world class standards such as decompression to single occupancy patient rooms, a state-of-the-art simulation center, and a health innovation center. The purpose of, and need for, the Medical Facilities Development was identified subsequent to the programming for BRAC 2005, which was specifically designed to accommodate the transfer of WRAMC to WRNMMCB and was never intended to address the mission capability or functionality of the existing infrastructure.

The primary purpose of the University Expansion is to address the significant space and operational limitations that exist for education and research activities due to the fragmented, aging, and inefficient infrastructure and enable USUHS to serve as the core academic health research center at WRNMMCB. The University Expansion is needed because the USUHS operations are currently fragmented between off-site leased space in Montgomery County, Maryland and other dispersed buildings on NSA Bethesda. Additionally, the University Expansion will address the most recent Liaison Committee on Medical Education accreditation requirements, and provide adequate education and research space to meet Military Health System commitments to deliver training and post-graduate level education to the military medical community.

The Medical Facilities Development resulted from an iterative planning process which resulted in the Comprehensive Master Plan (CMP) developed by JTF CapMed in response to the FY10 NDAA Congressional mandate, which identified and evaluated alternatives based on the departmental needs anticipated at the WRNMMCB after the completion of the BRAC-mandated relocations in September 2011. The CMP development process identified the proposed action as the best approach to meet the Congressional mandate for world class facilities commensurate in quality, capability and condition with the BRAC investment. The Medical Facilities Development, as described in the CMP, entails demolition of Buildings 2, 4, 6, 7, and 8 (approximately 326,000 square feet (SF)) of and construction of a single, 5-story facility totaling approximately 563,000 SF in the same basic footprint. The Medical Facilities Development also proposes utilities and power capacity upgrades, internal renovations in Buildings 1, 3, 5, 9 and 10, and the use of the northwest parking lot for temporary medical facilities to maintain uninterrupted patient care during the construction period.

The Medical Facilities Development also proposes, in the lawn in front of Building 1, the construction of an approximately 203,000 SF, 500-space underground parking garage, which in addition to the medical center, will serve the overall parking needs at NSA Bethesda. The EIS will analyze three alternative sites at NSA Bethesda for the underground parking garage: The warehouse area in the northeast corner, the Taylor Road site in the northeast area, and H-Lot in the south area, respectively.

The EIS will consider two alternative sites for the University Expansion: Alternative 1 and Alternative 2 are south and west, respectively, of the existing USUHS campus. Under either of the alternative sites, the University Expansion would entail an approximately 341,000 SF education and research facility and an approximately 144,000 SF, 400-space parking structure that will serve USUHS and the overall parking needs across NSA Bethesda.

The EIS will also consider the No Action Alternative, which will evaluate the impact at NSA Bethesda in the event that the proposed actions do not occur.

The EIS will address the potential impacts of the proposed actions on the number of staff, patients, and visitors at NSA Bethesda. In addition, the EIS will evaluate the potential direct, indirect, short-term, long-term, and cumulative impacts to the human and natural environment, to include potential impacts to topography, geology, and soils; water resources, biological resources, air quality, noise, infrastructure and utilities, traffic and transportation, cultural resources, land use, socioeconomics, environmental justice, and public health and safety. Known areas of concern associated with proposed actions include providing the required space and facilities at NSA Bethesda in consideration of historic characteristics of the installation, and the impact to local traffic and on-base parking associated with personnel and patient visits. Other recent changes at, and in the vicinity of, NSA Bethesda will be evaluated to ensure consideration of the cumulative impacts of the proposed actions in the context of the ongoing and programmed projects as well as reasonably foreseeable projects identified in the 2012 Master Plan.

The EIS will also consider the 2012 NSA Bethesda Master Plan relative to the implementation of the Medical Facilities Development and University Expansion. The EIS will evaluate the cumulative impacts of the proposed actions in the context of the programmed projects already in progress and the programmatic effects of the potential future development opportunities identified in the 2012 NSA Bethesda Master Plan.

The DoN encourages agencies and the public to provide written comments in addition to, or in lieu of, oral comments at the public scoping meetings. To be most helpful, comments should clearly describe specific issues or topics that the EIS should address. Written comments must be postmarked within 45 days of the date of publication of this notice in the Federal Register and should be mailed to the address below. Comments may also be submitted via e-mail and/or the Web site listed below, within 45 days of the date of publication of this notice in the Federal Register. Requests for inclusion on the EIS mailing list may also be submitted to: Sandy Dean, NSA Bethesda Public Affairs Office, 8901 Wisconsin Avenue, Bethesda, Maryland 20889; via e-mail at NNMC.NSABETHESDAEIS@med.navy.mil; via telephone at 301-295-5727; or visit the project Web site at http://www.bethesda.med.navy.mil/nsa/eis.aspx.

Dated: August 15, 2011.
J.M. Beal,
Lieutenant Commander, Judge Advocate General's Corps, U.S. Navy, Federal Register Liaison Officer.

[FR Doc. 2011-21216 Filed 8-18-11; 8:45 am]

BILLING CODE 3810-FF-P